ENVIRONMENTAL PROTECTION AGENCY

[EPA-HQ-OPP-2018-0014; FRL-9974-09]

Notice of Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by pesticide registrants to voluntarily cancel certain pesticide product registrations and to amend certain product registrations to terminate uses. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before April 5, 2018.

ADDRESSES: Submit your comments, identified by docket identification (ID) number EPA-HQ-OPP-2018-0014, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from pesticide registrants to cancel certain pesticide products and amend product registrations to terminate certain uses. The affected products and the registrants making the requests are identified in Tables 1 and 2 of this unit.

Unless a request is withdrawn by the registrant or if the Agency determines that there are substantive comments that warrant further review of this request, EPA intends to issue an order in the Federal Register canceling and amending the affected registrations.

Table 1—Product Registrations With Pending Requests for Cancellation
Registration No. | Company No. | Product name | Active ingredient
100-774 | 100 | Exceed Herbicide | Primisulfuron-methyl & Prosulfuron.
100-907 | 100 | Discover Herbicide | Clodinafop-propargyl (CAS Reg. No.105512-06-9).
264-1144 | 264 | Serenade Biofungicide Wettable Powder | QST 713 strain of bacillus subtilis.
264-1148 | 264 | Serenade | QST 713 strain of bacillus subtilis.
264-1149 | 264 | Serenade AS | QST 713 strain of bacillus subtilis.
264-1150 | 264 | Rhapsody AS | QST 713 strain of bacillus subtilis.
432-960 | 432 | Derringer F Herbicide | Glufosinate.
432-1559 | 432 | DuPont Tranxit Herbicide | Rimsulfuron.
432-1562 | 432 | Cimarron X-Tra Herbicide | Chlorsulfuron & Metsulfuron.
1448-353 | 1448 | Slimacide V-10 | Acetic acid, bromo-, 2-butene-1,4-diyl ester.
1448-374 | 1448 | BBAB | Acetic acid, bromo-, 2-butene-1,4-diyl ester.
2217-881 | 2217 | Gordon's Wasp & Hornet Spray | Piperonyl butoxide; Permethrin & Tetramethrin.
2596-156 | 2596 | Hartz Reference #124 | Pyriproxyfen & Phenothrin.
2596-159 | 2596 | Hartz Reference #127 | Pyriproxyfen; S-Methoprene & Phenothrin.
2915-26 | 2915 | Scented Moth Block | Paradichlorobenzene.
5185-421 | 5185 | Spa Brom Tablets | 2,4-Imidazolidinedione, 1-bromo-3-chloro-5,5-dimethyl-.
5185-433 | 5185 | Spa Brom Veriflo | 2,4-Imidazolidinedione, 1-bromo-3-chloro-5,5-dimethyl-.
5185-452 | 5185 | BCDMH99N-M | 2,4-Imidazolidinedione, 1-bromo-3-chloro-5,5-dimethyl-.
5185-454 | 5185 | BCDMH97NC-M | 2,4-Imidazolidinedione, 1-bromo-3-chloro-5,5-dimethyl-.
5185-456 | 5185 | BCDMH96NCR-M | 2,4-Imidazolidinedione, 1-bromo-3-chloro-5,5-dimethyl-.
5185-457 | 5185 | BCDMH94NCR-M | 2,4-Imidazolidinedione, 1-bromo-3-chloro-5,5-dimethyl-.
5185-469 | 5185 | Home Care Drop In | 2,4-Imidazolidinedione, 1-bromo-3-chloro-5,5-dimethyl-.
5185-480 | 5185 | Polaris Precis Spa Floater Cartridge | 2,4-Imidazolidinedione, 1-bromo-3-chloro-5,5-dimethyl-.
5185-490 | 5185 | Biolab BCDMH Granular | 2,4-Imidazolidinedione, 1-bromo-3-chloro-5,5-dimethyl-.
6836-109 | 6836 | Glychlor Powder | 1,3-Dichloro-5,5-dimethylhydantoin.
6836-110 | 6836 | Bromchlor Powder | 1,3-Dibromo-5,5-dimethylhydantoin & 2,4-Imidazolidinedione, 1-bromo-3-chloro-5,5-dimethyl-.
6836-118 | 6836 | Dantobrom P | 2,4-Imidazolidinedione, 1-bromo-3-chloro-5,5-dimethyl-; 1,3-Dichloro-5,5-dimethylhydantoin & 1,3-Dichloro-5-ethyl-5-methylhydantoin.
6836-120 | 6836 | Glybrom RW-90 | 2,4-Imidazolidinedione, 1-bromo-3-chloro-5,5-dimethyl- & 1,3-Dibromo-5,5-dimethylhydantoin.
6836-121 | 6836 | Glybrom RW-92.5 | 2,4-Imidazolidinedione, 1-bromo-3-chloro-5,5-dimethyl- & 1,3-Dibromo-5,5-dimethylhydantoin.
6836-122 | 6836 | Glybrom RW-93.5 | 2,4-Imidazolidinedione, 1-bromo-3-chloro-5,5-dimethyl- & 1,3-Dibromo-5,5-dimethylhydantoin.
6836-196 | 6836 | Bio Guard Bromo Brix Spa Brominating Briquettes | 2,4-Imidazolidinedione, 1-bromo-3-chloro-5,5-dimethyl-; 1,3-Dichloro-5,5-dimethylhydantoin & 1,3-Dichloro-5-ethyl-5-methylhydantoin.
6836-197 | 6836 | Bioguard Brombrix Pool Brominating Briquettes | 2,4-Imidazolidinedione, 1-bromo-3-chloro-5,5-dimethyl-; 1,3-Dichloro-5,5-dimethylhydantoin & 1,3-Dichloro-5-ethyl-5-methylhydantoin.
6836-242 | 6836 | Kem Tek Spa Kem Brominating Tablets | 2,4-Imidazolidinedione, 1-bromo-3-chloro-5,5-dimethyl-; 1,3-Dichloro-5,5-dimethylhydantoin & 1,3-Dichloro-5-ethyl-5-methylhydantoin.
6836-243 | 6836 | Kem Tek Spa Kem Bromi-Buoy | 2,4-Imidazolidinedione, 1-bromo-3-chloro-5,5-dimethyl-; 1,3-Dichloro-5,5-dimethylhydantoin & 1,3-Dichloro-5-ethyl-5-methylhydantoin.
6836-265 | 6836 | Dantobrom TBS-2.5 | 2,4-Imidazolidinedione, 1-bromo-3-chloro-5,5-dimethyl-; 1,3-Dichloro-5,5-dimethylhydantoin & 1,3-Dichloro-5-ethyl-5-methylhydantoin.
6836-272 | 6836 | Dantobrom TBS-4A | 2,4-Imidazolidinedione, 1-bromo-3-chloro-5,5-dimethyl-; 1,3-Dichloro-5,5-dimethylhydantoin & 1,3-Dichloro-5-ethyl-5-methylhydantoin.
6836-273 | 6836 | Dantobrom TBS-5A | 2,4-Imidazolidinedione, 1-bromo-3-chloro-5,5-dimethyl-; 1,3-Dichloro-5,5-dimethylhydantoin & 1,3-Dichloro-5-ethyl-5-methylhydantoin.
6836-282 | 6836 | Dantobrom PG Briquettes | 2,4-Imidazolidinedione, 1-bromo-3-chloro-5,5-dimethyl-; 1,3-Dichloro-5,5-dimethylhydantoin & 1,3-Dichloro-5-ethyl-5-methylhydantoin.
6836-291 | 6836 | Dantochlor TBS-6 | 1,3-Dichloro-5,5-dimethylhydantoin & 1,3-Dichloro-5-ethyl-5-methylhydantoin.
6836-299 | 6836 | Dantobrom TBS-7 | 2,4-Imidazolidinedione, 1-bromo-3-chloro-5,5-dimethyl-; 1,3-Dichloro-5,5-dimethylhydantoin & 1,3-Dichloro-5-ethyl-5-methylhydantoin.
6836-300 | 6836 | Dantobrom TBS-6 | 2,4-Imidazolidinedione, 1-bromo-3-chloro-5,5-dimethyl-; 1,3-Dichloro-5,5-dimethylhydantoin & 1,3-Dichloro-5-ethyl-5-methylhydantoin.
6836-312 | 6836 | Glybrom PG-100 Powder | 2,4-Imidazolidinedione, 1-bromo-3-chloro-5,5-dimethyl- & 1,3-Dibromo-5,5-dimethylhydantoin.
6836-319 | 6836 | Glychlor PG-100 Powder | 1,3-Dichloro-5,5-dimethylhydantoin.
7124-102 | 7124 | Maxibrom Slow Dissolving Brominating Tablets for Swimming Pools & Spas | 2,4-Imidazolidinedione, 1-bromo-3-chloro-5,5-dimethyl-.
7124-103 | 7124 | Maxibrom Slow Dissolving Brominating Tablets for Spas & Hot Tubs | 2,4-Imidazolidinedione, 1-bromo-3-chloro-5,5-dimethyl-.
7124-104 | 7124 | Hydrobrom 3 oz. Slow Dissolving Brominating Tablets for Swimming Pools | 2,4-Imidazolidinedione, 1-bromo-3-chloro-5,5-dimethyl-.
7401-319 | 7401 | Ferti-Lome Quik-Kill Home & Garden Insect Spray | Piperonyl butoxide & Pyrethrins.
7401-388 | 7401 | Hi-Yield Whitefly and Mealybug Killer | Piperonyl butoxide & Pyrethrins.
9688-288 | 9688 | Chemsico Aerosol LEG | o-Phenylphenol (No inert use).
10163-345 | 10163 | T&O Fertilizer—Contains Gallery Plus Team | Trifluralin; Benfluralin & Isoxaben.
10163-353 | 10163 | Turf Fertilizer—Contains Gallery Plus Team Pro | Benfluralin; Trifluralin & Isoxaben.
10163-364 | 10163 | Showcase | Oxyfluorfen; Isoxaben & Trifluralin.
33595-9 | 33595 | Envicide II | Isopropyl alcohol; Alkyl* dimethyl benzyl ammonium chloride *(60%C14, 30%C16, 5%C18, 5%C12) & Alkyl* dimethyl ethylbenzyl ammonium chloride *(68%C12, 32%C14).
62719-713 | 62719 | MON 89034 X TC1507 X MON 87411 X DAS-59122-7 Insect-Protected, Herbicide-Tolerant Corn | dsRNA transcript comprising a DvSnf7 inverted repeat sequence derived from western corn rootworm (Diabrotica virgifera) and the genetic material necessary for its production MON 87411 corn; Bacillus thuringiensis Cry1A.105 protein and genetic material necessary (vector PV-ZMIR245) for its production in corn; Bacillus thuringiensis Cry2Ab2 protein and the genetic material necessary (vector PV-ZMIR245) for its production in corn; Bacillus thuringiensis Cry1F protein and the genetic material necessary for its production (plasmid insert PHI8999) in corn; Bacillus thuringiensis Cry3Bb1 protein and the genetic material necessary for its procuction (vector PV -ZMIR10871) in corn event MON 87411 & Bacillus thuringiensis Cry34Ab1 and Cry35Ab1 proteins and the genetic material necessary for their production in corn.
66330-41 | 66330 | Endorse Wettable Powder Fungicide | Polyoxin D zinc salt.
66330-412 | 66330 | ARY 0411-0485 Tank Mix Herbicide | Clethodim & Sodium bentazon.
66397-1 | 66397 | Aqua Basics Brominating Tablets | 2,4-Imidazolidinedione, 1-bromo-3-chloro-5,5-dimethyl- & 1,3-Dibromo-5,5-dimethylhydantoin.
66397-2 | 66397 | Aqua Basics 3oz.-2″ Brominating Tablets | 2,4-Imidazolidinedione, 1-bromo-3-chloro-5,5-dimethyl- & 1,3-Dibromo-5,5-dimethylhydantoin.
67360-7 | 67360 | Intercide ABF-2 RF501 | 10,10′-Oxybisphenoxarsine.
67360-9 | 67360 | Intercide ABF-5 DIDP | 10,10′-Oxybisphenoxarsine.
83979-7 | 83979 | Rotam Paraquat Concentrate | Paraquat dichloride.
87931-13 | 87931 | Raymat Pyriproxyfen Technical | Pyriproxyfen.
91640-1 | 91640 | 2,4-D Technical | 2,4-D.
AZ-070009 | 10163 | Nexter | Pyridaben.
CA-100006 | 19713 | Drexel Captan 4L Fungicide | Captan.
CA-110006 | 100 | Touchdown Total | Glyphosate.
CA-870029 | 10163 | Treflan TR-10 | Trifluralin.
CA-870071 | 60244 | Orthene 75 S Soluble Powder | Acephate.
CA-930008 | 60217 | Sprout NIP Emulsifiable Concentrate | Chlorpropham.
CO-090007 | 5481 | Orthene Turf, Tree & Ornamental 97 Spray | Acephate.
DE-140004 | 81880 | Sandea Herbicide | Halosulfuron-methyl.
FL-140003 | 81880 | Sandea Herbicide | Halosulfuron-methyl.
GA-140001 | 81880 | Sandea Herbicide | Halosulfuron-methyl.
IN-140001 | 81880 | Sandea Herbicide | Halosulfuron-methyl.
LA-120010 | 100 | Gramoxone SL 2.0 | Paraquat dichloride.
MD-140001 | 81880 | Sandea Herbicide | Halosulfuron-methyl.
MI-120003 | 81880 | Sandea Herbicide | Halosulfuron-methyl.
NC-140001 | 81880 | Sandea Herbicide | Halosulfuron-methyl.
ND-050010 | 10163 | Sonalan 10G | Ethalfluralin.
ND-090004 | 10163 | Sonalan 10G | Ethalfluralin.
NV-130001 | 10163 | Onager 1E | Hexythiazox.
VA-140001 | 81880 | Sandea Herbicide | Halosulfuron-methyl.
WA-010009 | 34704 | Saber Herbicide | 2,4-D, dimethylamine salt.
WA-040027 | 5481 | Discipline 2EC | Bifenthrin.
WA-040030 | 34704 | Atrazine 4L | Atrazine.
WA-040034 | 66222 | Diazinon AG500 | Diazinon.
WA-050005 | 5481 | Discipline 2EC | Bifenthrin.
WA-090013 | 34704 | Curbit EC Herbicide | Ethalfluralin.
WA-900040 | 34704 | Clean Crop Simazine 4L Flowable Herbicide | Simazine.
WA-980025 | 34704 | Clean Crop Supreme Oil | Mineral oil—includes paraffin oil from 063503.
WI-140002 | 81880 | Sandea Herbicide | Halosulfuron-methyl.
WY-070008 | 10163 | Onager Miticide | Hexythiazox.

Table 2—Product Registrations With Pending Requests for Amendment
Registration No. | Company No. | Product name | Active ingredient | Uses to be terminated
100-969 | 100 | Scholar Fungicide | Fludioxonil | Pre-harvest uses and associated pre-harvest label language for the following crops: Melons and the post-harvest uses for citrus, pineapple, pome, tuberous and corm vegetable subgroup 1C, stone fruit, sweet potatoes, tomato, tropical fruit, and true yam without prejudice.
100-1131 | 100 | Callisto Herbicide | Mesotrione | Tolerances for Grass, Seed screenings and grass, straw.
1839-18 | 1839 | BTC 776 Concentrated Germicide | Alkyl* dimethyl benzyl ammonium chloride *(60%C14, 30%C16, 5%C18, 5%C12) & Dialkyl* methyl benzyl ammonium chloride *(60% C14, 30% C16, 5% C18, 5% C12) | Turfs/Lawns.
1839-19 | 1839 | BTC 8249 | Alkyl* dimethyl benzyl ammonium chloride *(60%C14, 30%C16, 5%C18, 5%C12) | Turfs/Lawns.
1839-23 | 1839 | BTC 824 | Alkyl* dimethyl benzyl ammonium chloride *(60%C14, 30%C16, 5%C18, 5%C12) | Turfs/Lawns.
1839-33 | 1839 | BTC 8248 | Alkyl* dimethyl benzyl ammonium chloride *(60%C14, 30%C16, 5%C18, 5%C12) | Turfs/Lawns.
1839-46 | 1839 | BTC 2125M | Alkyl* dimethyl benzyl ammonium chloride *(60%C14, 30%C16, 5%C18, 5%C12) & Alkyl* dimethyl ethylbenzyl ammonium chloride *(68%C12, 32%C14) | Turfs/Lawns.
1839-54 | 1839 | BTC 2125M-80% | Alkyl* dimethyl benzyl ammonium chloride *(60%C14, 30%C16, 5%C18, 5%C12) & Alkyl* dimethyl ethylbenzyl ammonium chloride *(68%C12, 32%C14) | Turfs/Lawns.
1839-55 | 1839 | BTC 2125 M-P 40 | Alkyl* dimethyl benzyl ammonium chloride *(60%C14, 30%C16, 5%C18, 5%C12) & Alkyl* dimethyl ethylbenzyl ammonium chloride *(68%C12, 32%C14) | Turfs/Lawns.
1839-65 | 1839 | BTC 65 | Alkyl* dimethyl benzyl ammonium chloride *(67%C12, 25%C14, 7%C16, 1%C8, C10, and C18) | Turfs/Lawns.
1839-68 | 1839 | BTC 8358 | Alkyl* dimethyl benzyl ammonium chloride *(50%C14, 40%C12, 10%C16) | Turfs/Lawns.
1839-207 | 1839 | BTC 5814-80% | Alkyl* dimethyl benzyl ammonium chloride *(58%C14, 28%C16, 14%C12) | Turfs/Lawns.
1839-228 | 1839 | BTC 451 P/S | Alkyl* dimethyl benzyl ammonium chloride *(50%C14, 40%C12, 10%C16) | Turfs/Lawns.
53883-310 | 53883 | Quali-Pro Chlorothalonil 720 SFT | Chlorothalonil | Apricot, cherry (sweet), cherry (tart), nectarine, peach, plum and prune.
53883-313 | 53883 | Quali-Pro Chlorothalonil DF | Chlorothalonil | Apricot, cherry (sweet), cherry (tart), nectarine, peach, plum and prune.
62097-15 | 62097 | Uniconazole-P Technical | Uniconazole P | Outdoor shade house and lath house.
62097-18 | 62097 | Concise | Uniconazole P | Outdoor shade house and lath house.
65217-1 | 65217 | Biobor JF | 1,3,2-Dioxaborinane, 2,2′-((1-methyl-1,3-propanediyl)bis(oxy))bis(4-methyl- & 1,3,2-Dioxaborinane, 2,2′oxybis(4,4,6-trimethyl- | Wood preservative.
75499-19 | 75499 | Vitagib 40% Soluble Powder Plant Growth Regulator | Gibberellic acid | Silage.

Table 3 of this unit includes the names and addresses of record for the registrants of the products listed in Table 1 and Table 2 of this unit, in sequence by EPA company number. This number corresponds to the first part of the EPA registration numbers of the products listed in Table 1 and Table 2 of this unit.

Table 3—Registrants Requesting Voluntary Cancellation and/or Amendments
EPA company No. | Company name and address
100 | Syngenta Crop Protection, LLC, 410 Swing Road, P.O. Box 18300, Greensboro, NC 27419-8300.
264 | Bayer CropScience, LP, 2 T.W. Alexander Drive, P.O. Box 12014, Research Triangle Park, NC 27709.
432 | Bayer Environmental Science, A Division of Bayer CropScience, LP, 2 T.W. Alexander Drive, Research Triangle Park, NC 27709.
1448 | Buckman Laboratories, Inc., 1256 North McLean Blvd., Memphis, TN 38108.
1839 | Stepan Company, 22 W. Frontage Rd., Northfield, IL 60093.
2217 | PBI-Gordon Corporation, 1217 West 12th Street, P.O. Box 014090, Kansas City, MI 64101-0090.
2596 | The Hartz Mountain Corporation, 400 Plaza Drive, Secaucus, NJ 07094.
2915 | The Fuller Brush Company, 860 Kaiser Road, Suite D, Napa, CA 94558.
5185 | Bio-Lab, Inc., P.O. Box 300002, Lawrenceville, GA 30049-1002.
5481 | AMVAC Chemical Corporation, 4695 MacArthur Court, Suite 1200, Newport Beach, CA 92660-1706.
6836 | Lonza, Inc., 90 Boroline Road, Allendale, NJ 07401.
7124 | Alden Leeds, Inc., 55 Jacobus Ave., South Kearny, NJ 07032.
7401 | Voluntary Purchasing Groups, Inc., Agent Name: Pyxis Regulatory Consulting, Inc., 4110 136th Street Ct. NW, Gig Harbor, WA 98332.
9688 | Chemsico, A Division of United Industries Corp., P.O. Box 142642, St. Louis, MO 63114-0642.
10163 | Gowan Company, P.O. Box 5569, Yuma, AZ 85366.
19713 | Drexel Chemical Company, P.O. Box 13327, Memphis, TN 38113-0327.
33595 | Plaze, Inc., 1000 Integram Drive, Pacific, MO 63069.
34704 | Loveland Products, Inc., P.O. Box 1286, Greeley, CO 80632-1286.
53883 | Control Solutions, Inc., 5903 Genoa Red Bluff Road, Pasadena, TX 77507.
60217 | Easter Lily Research Foundation (of the) Pacific Bulb Growers Assc., P.O. Box 907, Brookings, OR 97415.
60244 | Seminis Vegetable Seeds, 37437 State Highway 16, Woodland, CA 95695.
62097 | Fine Agrochemicals, Ltd., Agent Name: SciReg, Inc., 12733 Director's Loop, Woodbridge, VA 22192.
62719 | Dow AgrosSciences, LLC, 9330 Zionsville Rd., 308/2E, Indianapolis, IN 46268-1054.
65217 | Hammonds Fuel Additives, Inc., Agent Name: Delta Analytical Corp., 12510 Prosperity Drive, Suite 160, Silver Spring, MD 20904.
66222 | Makhteshim Agan of North America, Inc., d/b/a ADAMA, 3120 Highwoods Blvd., Suite 100, Raleigh, NC 27604.
66330 | Arysta LifeScience North America, LLC, 15401 Weston Parkway, Suite 150, Cary, NC 27513.
66397 | Mid-Continent Packaging, Inc., 1200 N 54th Street, Enid, OK 73701.
67360 | Polymer Additives, Inc., d/b/a Valtris Specialty Chemicals, Agent Name: Technology Sciences Group, Inc., 1150 18th St. NW, Suite 1000, Washington, DC 20036.
75499 | Plant Synergists, Inc., 4730 Kingussie Drive, Houston, TX 77084.
81880 | Canyon Group, LLC, c/o Gowan Company, 370 S. Main Street, Yuma, AZ 85364.
83979 | Rotam North America, Inc., Agent Name: Wagner Regulatory Associates, Inc., P.O. Box 640, Hockessin, DE 19707.
87931 | Raymat Materials, Inc., Agent Name: Pyxis Regulatory Consulting, Inc., 4110 136th Street Ct. NW, Gig Harbor, WA 98332.
91640 | Genmerica NA, LLC, Agent Name: GHB Consulting, 1660 3rd Ave. SW, Le Mars, IA 51031.

III. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Tables 1 and 2 of Unit II.

A. For Product 100-907

The registrant has requested to the Agency via letter dated November 10, 2017, a 12-month period (until November 30, 2018), to sell, distribute or use existing stocks of the subject product.

For all other voluntary product cancellations, identified in Table 1 of Unit II, registrants will be permitted to sell and distribute existing stocks of voluntarily canceled products for 1 year after the effective date of the cancellation, which will be the date of publication of the cancellation order in the Federal Register. Thereafter, registrants will be prohibited from selling or distributing the products identified in Table 1 of Unit II, except for export consistent with FIFRA section 17 (7 U.S.C. 136o) or for proper disposal.

Once EPA has approved product labels reflecting the requested amendments to terminate uses, identified in Table 2 of Unit II, registrants will be permitted to sell or distribute products under the previously approved labeling for a period of 18 months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: February 20, 2018.
Hamaad Syed,
Acting Director, Information Technology and Resources Management Division, Office of Pesticide Programs.

[FR Doc. 2018-04531 Filed 3-5-18; 8:45 am]

BILLING CODE 6560-50-P